DEPARTMENT OF THE INTERIOR

National Park Service

[N6357; NPS-WASO-NAGPRA-NPS0040614; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History, (SNOMNH) has completed an inventory of associated funerary objects and has determined that there is a cultural affiliation between the associated funerary objects and Indian Tribes or Native Hawaiian organizations in this notice.

DATES: Repatriation of the associated funerary objects in this notice may occur on or after August 28, 2025.

ADDRESSES: Send written requests for repatriation of associated funerary objects in this notice to Zachary Garrett, Sam Noble Oklahoma Museum of Natural History, University of Oklahoma, 2401 Chautauqua Avenue, Norman, OK 73072-7029, email zacgarrett@ou.edu.

SUPPLEMENTARY INFORMATION: This notice is published as part of the National Park Service's administrative responsibilities under NAGPRA. The determinations in this notice are the sole responsibility of SNOMNH, and additional information on the determinations in this notice, including the results of consultation, can be found in its inventory or related records. The National Park Service is not responsible for the determinations in this notice.

Abstract of Information Available

Based on the information available, two associated funerary objects were removed from the Clement 1 site (34MC8) in McCurtain County, OK. This site was excavated by the Works Progress Administration (WPA) in 1941, and the associated finds were transferred to SNOMNH that same year. The two associated funerary objects are one lot of decorated ceramic vessels and one lot of undecorated ceramic vessels. These associated funerary objects were likely interred around 1200-1500 CE. Cultural affiliation was established through Tribal Consultation, and is supported by archaeological, oral traditional, and post-contact historical information. This list of objects is an addition to the group of associated funerary objects previously identified in a Notice of Inventory Completion published in the Federal Register on September 13, 2021 (86 FR 50901). To our knowledge, no potentially hazardous substances were used to treat any of the associated funerary objects.

Cultural Affiliation

Based on the information available and the results of consultation, cultural affiliation is clearly identified by the information available about the associated funerary objects described in this notice.

Determinations

SNOMNH has determined that:

• The two objects described in this notice are reasonably believed to have been placed intentionally with or near individual human remains at the time of death or later as part of the death rite or ceremony.

• There is a connection between the associated funerary objects described in this notice and the Caddo Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after August 28, 2025. If competing requests for repatriation are received, SNOMNH must determine the most appropriate requestor prior to repatriation. Requests for joint repatriation of the associated funerary objects are considered a single request and not competing requests. SNOMNH is responsible for sending a copy of this notice to the Indian Tribes and Native Hawaiian organizations identified in this notice and any other consulting parties.

Authority: Native American Graves Protection and Repatriation Act, 25 U.S.C. 3003, and the implementing regulations, 43 CFR 10.10.

Dated: July 9, 2025.
Melanie O'Brien,
Manager, National NAGPRA Program.

[FR Doc. 2025-14277 Filed 7-28-25; 8:45 am]

BILLING CODE 4312-52-P